ENVIRONMENTAL PROTECTION AGENCY

40 CFR Parts 30, 31, 33, 35 and 40

[Docket ID No. OA-2002-0001; FRL-7602.2]

RIN 2020-AA39

Public Hearings on Participation by Disadvantaged Business Enterprises in Procurement Under Environmental Protection Agency (EPA) Financial Assistance Agreements

AGENCY: Environmental Protection Agency (EPA).

ACTION: Proposed rule; public hearings.

SUMMARY: This document announces the date and location of a Tribal hearing wherein EPA will take comments on its proposed rule for “Participation by Disadvantaged Business Enterprises in Procurement under Environmental Protection Agency (EPA) Financial Assistance Agreements,” published on July 24, 2003, at 68 FR 43824. This Tribal hearing will be held during the 180 day public comment period for the proposed rule, which ends on January 20, 2004. EPA will publish information concerning additional public hearings and Tribal hearings during the comment period when that information becomes available.

DATES: The Tribal hearing addressed by this Federal Register Proposal is scheduled as follows: January 8, 2004, 9 a.m. to 4 p.m., Billings, Montana.

ADDRESSES: The hearing will be held at the following location: The Northern Hotel, 19 North Broadway, Billings, Montana 59101.

FOR FURTHER INFORMATION CONTACT: Kimberly Patrick, Attorney Advisor, at (202) 564-5386, or David Sutton, Deputy Director at (202) 564-4444, Office of Small and Disadvantaged Business Utilization, U.S. Environmental Protection Agency, Mail Code 1230A, Ariel Rios Building, 1200 Pennsylvania Avenue, NW., Washington, DC 20460.

SUPPLEMENTARY INFORMATION: EPA published its proposed rule for Participation by Disadvantaged Business Enterprises in Procurement under Environmental Protection Agency (EPA) Financial Assistance Agreements on July 24, 2003, at 68 FR 43824. EPA has established an official public docket for this action under Docket ID No. OA-2002-0001. The proposed rule and supporting materials are available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information is (202) 566-1752. An electronic version of public docket is available through EPA's electronic public docket and comment systems, EPA Dockets. You may use EPA Dockets at http://www.epa.gov/edocket to submit or view public comments, access the index listing of the contents of the official public docket, and to access those documents in the public docket that are available electronically. Once in the system, select “search,” and then key in docket identification number OA-2002-0001. You may access this Federal Register document electronically through the EPA Internet under the “Federal Register” listings at http://www.epa.gov/fedrgstr.

Dated: December 18, 2003.
Thomas J. Gibson,
Chief of Staff.

[FR Doc. 03-31708 Filed 12-23-03; 8:45 am]

BILLING CODE 6560-50-P